DEPARTMENT OF COMMERCE

National Oceanic and Atmospheric Administration

[RTID 0648-XE304]

Fisheries of the Caribbean, Gulf of Mexico, and South Atlantic; Secretarial Amendment to the Fishery Management Plan for the Snapper-Grouper Fishery of the South Atlantic Region

AGENCY: National Marine Fisheries Service (NMFS), National Oceanic and Atmospheric Administration (NOAA), Commerce.

ACTION: Notice of intent to prepare an environmental impact statement; request for comments.

SUMMARY: NMFS, Southeast Region, intends to prepare an environmental impact statement (EIS) and conduct scoping to analyze management alternatives to be included in a Secretarial Amendment to the Fishery Management Plan for the Snapper-Grouper Fishery of the South Atlantic Region (Secretarial Amendment). The EIS will evaluate a range of alternatives for setting and managing catch for South Atlantic red snapper to end overfishing and support rebuilding objectives of the stock. The purpose of this notice of intent is to solicit public comments on the scope of issues to be addressed in the EIS.

DATES: Written comments on the scope of issues to be addressed in the EIS must be received on or before November 8, 2024.

ADDRESSES: You may submit comments on this document identified by NOAA-NMFS-2024-0107 by either of the following methods:

• Electronic submissions: Submit all electronic public comments via the Federal e-Rulemaking Portal. Visit https://www.regulations.gov and type NOAA-NMFS-2024-0107, in the Search box. Click the “Comment” icon, complete the required fields, and enter or attach your comments.

• Mail: Submit written comments to Karla Gore, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

The unique identification number for the EIS for the Secretarial Amendment is: EISX-006-48-1SE-1726732992.

FOR FURTHER INFORMATION CONTACT: Karla Gore, Southeast Regional Office, telephone: 727-824-5305; or email: karla.gore@noaa.gov.

SUPPLEMENTARY INFORMATION: NMFS, with the advice of the South Atlantic Fishery Management Council (South Atlantic Council), manages the snapper-grouper fishery, which includes red snapper, under the Fishery Management Plan for the Snapper-Grouper Fishery of the South Atlantic Region (Snapper-Grouper FMP). The South Atlantic Council prepared the Snapper-Grouper FMP, and NMFS implements the Snapper-Grouper FMP through regulations at 50 CFR part 622 under authority of the Magnuson-Stevens Fishery Conservation and Management Act (Magnuson-Stevens Act). The Magnuson-Stevens Act requires that NMFS and regional fishery management councils prevent overfishing and achieve, on a continuing basis, the optimum yield from federally managed fish stocks. These mandates are intended to ensure that fishery resources are managed for the greatest overall benefit to the Nation, particularly with respect to providing food production and recreational opportunities and protecting marine ecosystems.

The Magnuson-Stevens Act also provides that the Secretary of Commerce (Secretary) may prepare a fishery management plan (FMP) or an amendment to any such FMP (Secretarial Amendment) under certain circumstances. Section 304(c)(1)(A) of the Magnuson-Stevens Act provides that the Secretary may prepare an FMP or FMP amendment in accordance with the national standards, the other provisions of the Magnuson-Stevens Act, and any other applicable law, “if the appropriate Council fails to develop and submit to the Secretary, after a reasonable period of time” an FMP for such fishery, or any necessary amendment to such an FMP, if such fishery requires conservation and management.

The status of the South Atlantic red snapper stock was evaluated in the Southeast Data, Assessment, and Review (SEDAR) 73 stock assessment that was completed in 2021. The results of SEDAR 73 indicated that the South Atlantic red snapper stock remains overfished and is experiencing overfishing, and the overfishing is being primarily driven by high numbers of dead discards in the recreational sector. Because the South Atlantic red snapper stock is overfished, it is managed under a rebuilding plan implemented through Amendment 17A to the Snapper-Grouper FMP (75 FR 76874, December 9, 2010), which specified a 35-year rebuilding schedule with the rebuilding timeframe to end in 2044. In a letter dated July 23, 2021, NMFS notified the South Atlantic Council of the results of SEDAR 73 and that overfishing of red snapper was occurring. The South Atlantic Council has discussed how to address or end overfishing of this stock since receiving the overfishing notification from NMFS, but it has not taken action to meet the Magnuson-Stevens Act requirements to end overfishing. To reduce overfishing of South Atlantic red snapper in the 2024 fishing year, NMFS implemented interim measures that included reducing the commercial and recreational annual catch limits (89 FR 50530, June 14, 2024).

NMFS has determined that red snapper requires conservation and management measures to end the overfishing, and is therefore developing a Secretarial Amendment to end overfishing of red snapper in accordance with the Magnuson-Stevens Act. While developing the EIS and Secretarial Amendment, NMFS will consider new information that has become available since 2021 for revisions to South Atlantic red snapper management. At this time, NMFS intends for this action to be in place during the 2025 commercial and recreational fishing seasons.

The EIS to support the Secretarial Amendment would explore management strategies to end overfishing of South Atlantic red snapper while also considering alternatives to increase fishing opportunities for landing red snapper by reducing the amount of fish released dead. NMFS will develop an EIS to describe and analyze alternatives to address the management needs previously described, including the current or “no action” alternatives. Possible actions that NMFS may consider to include in the EIS are, but are not limited to, adjusting catch levels, adjusting accountability measures, and discard reduction measures.

In accordance with the Companion Manual to NOAA Administrative Order 216-6A, NMFS has identified preliminary environmental issues as a means to initiate discussion for scoping purposes only. The public is invited to provide written comments on the preliminary issues, which are identified as actions in the EIS. These preliminary issues may not represent the full range of issues that eventually will be evaluated in the final EIS associated with the Secretarial Amendment.

After the draft EIS associated with the Secretarial Amendment is completed, it will be filed with the Environmental Protection Agency (EPA). After filing, the EPA will publish a notice of availability of the draft EIS for public comment in the Federal Register. The draft EIS will have a 45-day comment period. NMFS currently anticipates publishing the draft EIS by January 24, 2025, with the comment period to expected to end on March 10, 2025.

This procedure is pursuant to regulations issued by the Council on Environmental Quality or implementing the procedural provisions of the National Environmental Policy Act (40 CFR parts 1500-1508) and the Companion Manual to NOAA Administrative Order 216-6A.

NMFS will consider public comments received on the draft EIS in developing the final environmental impact statement (FEIS) and the record of decision. NMFS will announce, through a document published in the Federal Register, all additional public comment periods on the final Secretarial Amendment, its proposed implementing regulations, and the availability of its associated FEIS. NMFS will consider all public comments received, whether they are on the draft EIS, final amendment, the proposed regulations, or the FEIS, prior to final agency action. NMFS anticipates publishing the FEIS by April 25, 2025, with a record of decision signed by NMFS by May 25, 2025. These specific dates are preliminary and are subject to change based on NMFS administrative needs.

(Authority: 16 U.S.C. 1801 et seq.)

Dated: October 3, 2024.
Karen H. Abrams,
Acting Director, Office of Sustainable Fisheries, National Marine Fisheries Service.

[FR Doc. 2024-23320 Filed 10-8-24; 8:45 am]

BILLING CODE 3510-22-P